DEPARTMENT OF THE INTERIOR

National Park Service

[NPS-WASO-NAGPRA-NPS0026958; PPWOCRADN0-PCU00RP14.R50000]

Notice of Inventory Completion: Wisconsin Historical Society, Madison, WI

AGENCY: National Park Service, Interior.

ACTION: Notice.

SUMMARY: The Wisconsin Historical Society has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Wisconsin Historical Society. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Wisconsin Historical Society at the address in this notice by January 4, 2019.

ADDRESSES: Jennifer Kolb, Wisconsin Historical Society, 816 State St., Madison, WI 53706, telephone (608) 264-6434, email Jennifer.Kolb@wisconsinhistory.org.

SUPPLEMENTARY INFORMATION: Notice is hereby given in accordance with the Native American Graves Protection and Repatriation Act (NAGPRA), 25 U.S.C. 3003, of the completion of an inventory of human remains and associated funerary objects under the control of the Wisconsin Historical Society, Madison, WI. The human remains and associated funerary objects were removed from two sites in Sauk County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and the Upper Sioux Community, Minnesota, hereafter referred to as “The Consulted Tribes.”

History and Description of the Remains

In 1954 and 1955, human remains representing, at minimum, two individuals were removed from Durst Rockshelter (47-SK-0002) in Sauk County, WI. The site was investigated by archeologist Warren Wittry of the Wisconsin Historical Society in 1954 and 1955 as a research project targeted at obtaining diagnostic chronological information of Wisconsin's prehistory. During excavations, Wittry discovered human remains representing one adult female and one individual of indeterminate age and sex. The adult female, found in a primary burial, had been interred in a flexed position in a prepared burial pit. The individual of indeterminate age and sex is represented by only a few skeletal elements that were found intermingled within occupation debris. Wittry could not determine whether the second set of human remains represented an intentional burial or had been displaced due to natural erosion or other causes. No known individuals were identified. No associated funerary objects are present.

In 1959, human remains representing, at minimum, one individual were removed from Clement Thering Mound (47-SK-0282) in Sauk County, WI. The mound was first investigated by the landowner, Clement Thering, in 1959. Upon discovery of human remains in a subfloor pit, Thering contacted Warren Wittry of the Wisconsin Historical Society. Wittry visited the site within a few days of being contacted, and excavated the human remains. Skeletal analysis conducted in 2003 determined that the remains represent a single adult male between the ages of 15 and 18. No known individuals were identified. The six associated funerary objects are one group of shell ornaments, one group of charcoal and wood fragments, one group of raven remains, one group of chert flakes, one group of projectile points, and one probable deer toe bone.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of three individuals of Native American ancestry.

• Pursuant to 25 U.S.C. 3001(3)(A), the six objects described in this notice are reasonably believed to have been placed with or near individual human remains at the time of death or later as part of the death rite or ceremony.

• Pursuant to 25 U.S.C. 3001(2), a relationship of shared group identity cannot be reasonably traced between the Native American human remains associated funerary objects and any present-day Indian Tribe.

• According to final judgments of the Indian Claims Commission or the Court of Federal Claims, the land from which the Native American human remains were removed is the aboriginal land of the Ho-Chunk Nation of Wisconsin and the Winnebago Tribe of Nebraska.

• Treaties, Acts of Congress, or Executive Orders, indicate that the land from which the Native American human remains and associated funerary objects were removed is the aboriginal land of the Ho-Chunk Nation of Wisconsin and the Winnebago Tribe of Nebraska.

• Pursuant to 43 CFR 10.11(c)(1), the disposition of the human remains and associated funerary objects may be to the Ho-Chunk Nation of Wisconsin and the Winnebago Tribe of Nebraska.

Additional Requestors and Disposition

Representatives of any Indian Tribe or Native Hawaiian organization not identified in this notice that wish to request transfer of control of these human remains and associated funerary objects should submit a written request with information in support of the request to Jennifer Kolb, Wisconsin Historical Society, 816 State St., Madison, WI 53706, telephone (608) 264-6434, email Jennifer.Kolb@wisconsinhistory.org, by January 4, 2019. After that date, if no additional requestors have come forward, transfer of control of the human remains and associated funerary objects to the Ho-Chunk Nation of Wisconsin and the Winnebago Tribe of Nebraska may proceed.

The Wisconsin Historical Society is responsible for notifying The Consulted Tribes, the Ho-Chunk Nation of Wisconsin, and the Winnebago Tribe of Nebraska that this notice has been published.

Dated: November 7, 2018.
Melanie O'Brien,
Manager, National NAGPRA Program.

[FR Doc. 2018-26442 Filed 12-4-18; 8:45 am]

BILLING CODE 4312-52-P